DEPARTMENT OF AGRICULTURE

Forest Service

Lynn Canal/Icy Straits Resource Advisory Committee

AGENCY: Forest Service, USDA.

ACTION: Notice of meeting.

SUMMARY: The Lynn Canal/Icy Straits Resource Advisory Committee will meet in Juneau, Alaska, April 25, 2011. The purpose of this meeting is to orient the new appointees as to the Secure Rural Schools and Community Self-Determination Act of 2008, provide operational guidelines, discuss and adopt specific bylaws for the RAC, and elect a RAC Chairperson.

DATES: The meeting will be held April 25, 2011 from 8:30-3:30.

ADDRESSES: The meeting will be held at the Juneau Ranger District/Admiralty National Monument Office, 8510 Mendenhall Loop Road, Juneau, Alaska. Send written comments to Lynn Canal/Icy Straits Resource Advisory Committee, c/o Admiralty National Monument Ranger, 8510 Mendenhall Loop Road, Juneau, Alaska 99801, or electronically to Debra Robinson, RAC Coordinator at drobinson03@fs.fed.us.

FOR FURTHER INFORMATION CONTACT: Debra Robinson, RAC Coordinator Juneau Ranger District/Admiralty National Monument, Tongass National Forest, (907) 789-0209.

SUPPLEMENTARY INFORMATION: The meeting is open to the public. Committee discussion is limited to Forest Service staff and Committee members. However, public input opportunity will be provided and individuals will have the opportunity to address the Committee at that time.

Dated: April 5, 2011.
Chad Vanormer,
Admiralty National Monument Ranger.

[FR Doc. 2011-9043 Filed 4-14-11; 8:45 am]

BILLING CODE 3410-11-M